MORRIS K. UDALL AND STEWART L. UDALL FOUNDATION

Sunshine Act Meetings

TIME AND DATE: Electronic Board Meeting to be held via email exchanges Thursday, July 10, 2014, 8 a.m. (PDT), through Wednesday, July 16, 2014.

PLACE: Board Meeting held via email.

STATUS: This special meeting of the Board of Trustees, to be held Electronically (in accordance with Foundation Operating Procedures), is open to the public. Members of the public who would like to see the text of the resolution to be considered and/or the email votes regarding the resolution should email Elizabeth E. Monroe, Executive Assistant, Morris K. Udall and Stewart L. Udall Foundation, at monroe@udall.gov.

MATTERS TO BE CONSIDERED: Resolution regarding transfer of funds to the Native Nations Institute for Leadership, Management, and Policy.

CONTACT PERSON FOR MORE INFORMATION: Philip J. Lemanski, Executive Director, 130 South Scott Avenue, Tucson, AZ 85701, (520) 901-8500.

Dated: June 25, 2014.
Philip J. Lemanski,
Executive Director, Morris K. Udall and Stewart L. Udall Foundation, and Federal Register Liaison Officer.

[FR Doc. 2014-15502 Filed 7-7-14; 8:45 am]

BILLING CODE P